NATIONAL CREDIT UNION ADMINISTRATION

12 CFR Part 741

RIN 3133-AE77

Requirements for Insurance; National Credit Union Share Insurance Fund Equity Distributions; Correction

AGENCY: National Credit Union Administration (NCUA).

ACTION: Final rule; correction.

SUMMARY: On February 23, 2018, the NCUA Board (Board) issued a final rule adopting amendments to its share insurance requirements rule to provide stakeholders with greater transparency regarding the calculation of each eligible financial institution's pro rata share of a declared equity distribution from the National Credit Union Share Insurance Fund (NCUSIF). A clerical error appeared which confuses what CFR unit is being amended. This document corrects that error.

DATES: This correction is effective March 26, 2018.

FOR FURTHER INFORMATION CONTACT: Benjamin M. Litchfield, Staff Attorney, Office of General Counsel, at (703) 518-6540; or Steve Farrar, Supervisory Financial Analyst, Office of Examination and Insurance, at (703) 518-6360. You may also contact them at the National Credit Union Administration, 1775 Duke Street, Alexandria, Virginia 22314-3428.

SUPPLEMENTARY INFORMATION: On February 23, 2018, at 83 FR 7954, the Board issued a final rule adopting amendments to 12 CFR part 741. In amendments to appendices A, B, and C to part 741, incorrect headings appeared above amendatory instructions 4 and 5 on page 7964 identifying the wrong CFR part. Instruction 5 omitted the part number.

Therefore, FR Rule Doc. No. 2018-03622, published on February 23, 2018, beginning on page 7954, is corrected as follows:

1. On page 7964, in the center column, the heading above amendatory instruction 4 is corrected to read as follows:

Appendix A to Part 741 [Removed]

2. On page 7964, in the center column, the heading above amendatory instruction 5 and amendatory instruction 5 are corrected to read as follows:

Appendices B and C to Part 741 [Redesignated as Appendices A and B to Part 741]

5. Redesignate appendix B and appendix C to part 741 as appendix A and appendix B to part 741, respectively.

By the National Credit Union Administration Board on March 7, 2018.
Gerard Poliquin,
Secretary of the Board.

[FR Doc. 2018-05056 Filed 3-12-18; 8:45 am]

BILLING CODE 7535-01-P